DEPARTMENT OF HEALTH AND HUMAN SERVICES

Centers for Disease Control and Prevention

[60Day-05BP]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5983 or send comments to Seleda M. Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Healthier Worksite Initiative-CDC Employee Needs Assessment— New—National Center for Chronic Disease Prevention and Health Promotion (NCCDPHP), Centers for Disease Control and Prevention (CDC).

Background and Brief Description

CDC's National Center for Chronic Disease Prevention and Health Promotion, Division of Nutrition and Physical Activity, Healthier Worksite Initiative (HWI), proposes to conduct a baseline measurement of employee health practices and ongoing monitoring of the awareness and reaction to planned HWI interventions.

In October, 2002 the CDC Director began a Healthier Worksite Initiative for CDC, focusing on the four pillars of the President's HealthierUS Workforce directive—physical activity, healthy eating, preventive screening, and making healthy choices. This was in line with the Department of Health and Human Services initiative within its own agencies. The Division of Nutrition and Physical Activity (DNPA), within NCCDPHP, was designated to lead the initiative within CDC.

The purpose of the Healthier Worksite Initiative is to: (1) Develop and evaluate worksite health promotion interventions for CDC employees, culminating in a model worksite health promotion program; (2) establish an evidence base for worksite health promotion interventions; and (3) develop a web-based tool kit to share information learned with other Federal agencies, as they refine or develop their own employee health promotion programs.

The HWI infrastructure is centered around two entities: the Healthier Worksite Advisory Committee and the Healthier Worksite Workgroup. The Advisory Committee includes representatives from all interested Centers, Institutes, and Offices within CDC. The committee meets monthly to review the progress of and to provide direction for the Healthier Worksite Initiative. The Healthier Worksite Workgroup develops innovative worksite health program ideas and tests them in demonstration projects. An outcome of this project will be a Web site which will serve as a resource for all government agencies and the general public for implementation of HealthierUS pillars in work settings.

One of the key components in successful worksite health promotion programs is a needs assessment. This request for OMB approval is to conduct a needs assessment by surveying all CDC employees. The HWI assessment of employee behaviors and needs will provide a foundation of information to determine the direction and requirements to build a successful worksite health promotion program. In addition, ongoing monitoring to continually assess and improve the effectiveness of the HWI programs and progress is essential in keeping the initiative on the cutting-edge in provision of worksite health programs.

The initial employee needs assessment will be a web-based survey of all CDC employees (including contractors, fellows and guest researchers). Future periodic monitoring methods may include: e-mail surveys, telephone surveys, telephone or in-person focus groups, web-based surveys, or intercept interviews. Tracking and evaluation of program effectiveness are standard health promotion tools. There is no cost to respondents except for their time to participate in the survey.

Estimate of Annualized Burden Table
Respondents | Number of respondents | Number of responses/ respondent | Average burden per response (in hours) | Total burden hours
CDC Employees (to include contractors, fellows, and guest researchers) | 16,500 | 1 | 10/60 | 2750
Total |  |  |  | 2750

Dated: March 31, 2005.
Betsey Dunaway,
Acting Reports Clearance Officer, Centers for Disease Control and Prevention.

[FR Doc. 05-6902 Filed 4-6-05; 8:45 am]

BILLING CODE 4163-18-P